FEDERAL COMMUNICATIONS COMMISSION

[DA 00-971]

Annual Adjustment of Revenue Threshold

AGENCY: Federal Communications Commission.

ACTION: Notice.

SUMMARY: This notice announces that the 1999 revenue threshold used for classifying carriers for various accounting and reporting purposes is increased to $114 million. Section 402(c) of the 1996 Act mandates that the Commission adjusts the revenue threshold annually to reflect the effect of inflation.

DATES: The agency must receive comments on or before September 7, 2000.

ADDRESSES: Federal Communications Commission, 445-12th Street, SW, Room TW-A325, Washington, D.C. 20554.

FOR FURTHER INFORMATION CONTACT: Debbie Weber, Accounting Systems Branch, Accounting Safeguards Division, Common Carrier Bureau at (202) 418-0812.

SUPPLEMENTARY INFORMATION: This gives notice that the revenue threshold used for classifying carriers for various accounting and reporting purposes is increased to $114 million. Section 402(c) of the 1996 Act mandates that we “adjust the revenue requirements” of Sections 32.11, 43.21, 43.43 and 64.903 of our rules “to account for inflation as of the release date of the Commission's Report and Order in CC Docket No. 91-141, and annually thereafter.” Prior to passage of the 1996 Act, our rules established a $100 million threshold to classify carriers for accounting purposes in Section 32.11, for filing cost allocation manuals in Section 64.903, and for filing certain reports with the Commission in Part 43.

In accordance with the 1996 Act, the Commission adjusts the revenue threshold based on the ratio of the Gross Domestic Product Chain-type Price Index (GDPPI) in the revenue year and the GDPPI for 1992, rounded to the nearest $1 million. The 1999 indexed revenue threshold was calculated as follows:

(1) 1992 GDPPI | 91.62
(2) 1999 GDPPI | 104.57
(3) Inflation Factor (line 2 / line 1) | 1.1413
(4) Original Revenue Threshold | ¹ $100
(5) 1999 Revenue Threshold (line 3 * line 4) | ¹ $114
¹ Million.

Accordingly, the 1999 indexed revenue threshold is $114 million.

Federal Communications Commission.
Magalie Roman Salas,
Secretary.

[FR Doc. 00-14540 Filed 6-8-00; 8:45 am]

BILLING CODE 6712-01-P